DEPARTMENT OF HEALTH AND HUMAN SERVICES

Administration for Community Living

Agency Information Collection Activities; Proposed Collection; Comment Request; Process Evaluation of the Aging Network and Its Return on Investment; OMB #0985-New

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on a revision to the information collection requirements related to the Process Evaluation of the Aging Network and its Return on Investment.

DATES: Comments on the collection of information submitted electronically by 11:59 p.m. (EST) or postmarked by October 29, 2021.

ADDRESSES: Submit written comments on the collection of information:

Attention: Caryn Bruyere, Caryn.Bruyere@acl.hhs.gov.

Via U.S. Mail Attention: Caryn Bruyere U.S. Department of Health and Human Services, Administration for Community Living, Washington, DC 20201.

FOR FURTHER INFORMATION CONTACT: Caryn Bruyere, Office of Performance and Evaluation. Administration for Community Living Telephone: 202-795-7393.

Email: caryn.bruyere@acl.hhs.gov.

SUPPLEMENTARY INFORMATION: Under the PRA (44 U.S.C. 3501-3520), Federal agencies must obtain approval from the Office of Management and Budget (OMB) for each collection of information they conduct or sponsor. “Collection of information” is defined as agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

Background: Many older adults have unmet health care and social service needs, which require coordinated care across a range of services, including access to nutritious meals, transportation, preventive health care, home and community-based care, social interaction, support for family caregivers, and advocacy to help maintain older adults' safety, dignity, and legal rights. This proposed data collection for the Process Evaluation of the Aging Network and its Return on Investment is intended to provide timely information on, (1) how agencies in the Aging Network collaborate to serve older adults and family caregivers, and (2) how agencies measure the effectiveness of their efforts with the goal of strengthening their reach and impact. Through this data collection ACL will investigate how states differ in their network structure, how agencies work together, and potential strategies for evaluating return on investments (ROI) of ACL programs.

The Process Evaluation of the Aging Network and its Return on Investment will include: (1) A census of agencies in the Aging Network, and (2) key informant interviews with agencies that are evaluating ROI. The survey seeks to collect data from all State Units on Aging (SUAs), Area Agencies on Aging (AAAs) (including some Aging and Disability Resource Centers), and Older Americans Act Title VI Native American tribal organizations. Surveying these organizations will help ACL understand how and with whom agencies in the network collaborate to address the needs of older adults and family caregivers, partnerships that have formed or expanded because of COVID-19, and how agencies measure the effectiveness and ROI of their various programs.

The study will also include key informant interviews with a subset of 10 agencies that responded to the survey whose responses indicate that their agency is evaluating ROI. The data collection team will ask in-depth questions about the costs and benefits included in ROI calculations, successes and challenges to evaluating ROI, and lessons learned that could benefit other agencies seeking to conduct their own assessment of ROI.

To comment on this information collection please visit the ACL website: https://www.acl.gov/about-acl/public-input.

Estimated Program Burden

ACL estimates the burden associated with this collection of information as follows: The proposed data collection estimates the average burden per response to be 0.17 hours for the Aging Network survey. The average burden per response for the key informant interviews estimated as 1 hour.

Table 1—Estimated Annualized Burden Hours
Data collection activity | Annual number of respondents | Number of responses per respondent | Total number of responses | Average burden per response (in hours) | Annual estimated burden hours
Aging Network survey | 864 | 1 | 864 | 0.17 | 144
Key informant interview guide | 10 | 1 | 10 | 1 | 10
Total | 874 | Varies | 874 | 0.18 (weighted mean) | 154

Dated: August 24, 2021.
Alison Barkoff,
Acting Administrator and Assistant Secretary for Aging.

[FR Doc. 2021-18588 Filed 8-27-21; 8:45 am]

BILLING CODE 4154-01-P